FEDERAL MARITIME COMMISSION

[Docket No. 01-04]

Selbuy Internatinal, Inc., d/b/a Canyon Enterprises v. Guardian Services Group, LTD.; Notice of Filing of Complaint and Assignment

Notice is given that a complaint has been filed with the Federal Maritime Commission (“Commission”) by Selbuy International, Inc., d/b/a Canyon Enterprises. (“Complainant”) against Guardian Services Group, Ltd. (“Respondent”).

Complainant is in the business of selling automobile spare parts, engines, radiators, transmissions and automobile body parts. Complainant states that the Respondent is a foreign freight forwarder licensed by the Commission. Complainant states that it contracted with Respondent to have certain goods transported from Saudi Arabia to Los Angeles. Complainant alleges that Respondent, instead of delivering certain of these goods to Complainant as agreed upon, refused to release those goods until Complainant paid $32,900 in additional shipping charges over and above the rate previously agreed upon between the parties. Complainant states that the shipping lines refused to release the goods until they received the original bills of lading, sequestered Complainant's goods in warehouses and imposed demurrage charge in the amount of $23,959.57.

Complainant alleges that Respondent violated section 10(d) of the Shipping Act of 1984, as amended, (“Shipping Act”) by engaging in unjust and unreasonable practices in connection with the receipt, handling, storing and delivery of Complainant's goods. Complainant alleges that it has been subject to direct injury in connection with these practices by the payment of additional charges; by payment of demurrange charges; by idling the workers Complainant hired to inventory the goods; and by being unable to make timely delivery to its customer, which canceled its order with Complainant, which cost Complainant $150,000 in gross revenues, half of which was anticipated profit.

Complainant asks that Respondent be required to answer its charges and, after due hearing, the Commission make an order commanding Respondent to pay Complainant reparations of $137,859.57 with interest and attorney's fees or such other sum as the Commission may determine to be proper, and such other further order or orders the Commission determines to be proper. Complainant requests that hearing be held in or near Los Angeles, California.

This proceeding has been assigned to the office of Administrative Law Judges. Hearing in this matter, if any is held, shall commence within the time limitations prescribed in 46 CFR 502.61, and only after consideration has been given by the parties and the presiding officer to the use of alternative forms of dispute resolution. The hearing shall include oral testimony and cross-examination in the discretion of the presiding officer only upon proper showing that there are genuine issues of material fact that cannot be resolved on the basis of sworn statements, affidavits, depositions, or other documents or that the nature of the matter in issue is such that an oral hearing and cross-examination are necessary for the development of an adequate record. Pursuant to the further terms of 46 CFR 502.61, the initial decision of the presiding officer in this proceeding shall be issued by April 5, 2002, and the final decision of the Commission shall be issued by August 5, 2002.

Bryant L. VanBrakle,
Secretary.

[FR Doc. 01-8896 Filed 4-10-01; 8:45 am]

BILLING CODE 6730-01-P